ENVIRONMENTAL PROTECTION AGENCY

[FRL-9980-79-OW]

Notice of Availability of the Deepwater Horizon Oil Spill Louisiana Trustee Implementation Group Final Restoration Plan/Environmental Assessment #2: Provide and Enhance Recreational Opportunities and Finding of No Significant Impact

AGENCY: Environmental Protection Agency (EPA).

ACTION: Notice of availability.

SUMMARY: In accordance with the Oil Pollution Act of 1990 (OPA) and the National Environmental Policy Act (NEPA), the Federal and State natural resource trustee agencies for the Louisiana Trustee Implementation Group (Louisiana TIG) have prepared the Final Restoration Plan and Environmental Assessment #2: Provide and Enhance Recreational Opportunities (Final RP/EA #2). The Final RP/EA #2 describes and, in conjunction with the associated Finding of No Significant Impact (FONSI), selects four preferred project alternatives considered by the Louisiana TIG to compensate for recreational use services lost as a result of the Deepwater Horizon oil spill. The Louisiana TIG evaluated alternatives under criteria set forth in the OPA natural resource damage assessment (NRDA) regulations, and evaluated the environmental consequences of the restoration alternatives in accordance with NEPA. The selected projects are consistent with the restoration alternatives selected in the Deepwater Horizon oil spill Final Programmatic Damage Assessment and Restoration Plan/Programmatic Environmental Impact Statement (PDARP/PEIS). The Federal Trustees of the Louisiana TIG have determined that implementation of the Final RP/EA #2 is not a major federal action significantly affecting the quality of the human environment within the context of NEPA. They have concluded a FONSI is appropriate, and, therefore, an Environmental Impact Statement will not be prepared. The purpose of this notice is to inform the public of the approval and availability of the Final RP/EA #2 and FONSI.

ADDRESSES: Obtaining Documents: You may download the Final RP/EA #2 and FONSI at any of the following sites:

• http://www.gulfspillrestoration.noaa.gov

• http://www.la-dwh.com

Alternatively, you may request a CD of the Final RP/EA #2 and FONSI (see FOR FURTHER INFORMATION CONTACT). You may also view the document at any of the public facilities listed at http://www.gulfspillrestoration.noaa.gov.

FOR FURTHER INFORMATION CONTACT:

• Louisiana—Joann Hicks, 225-342-5477

• EPA—Tim Landers, 202-566-2231

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days.

The Trustees conducted the natural resource damage assessment for the Deepwater Horizon oil spill under the Oil Pollution Act of 1990 (33 U.S.C. 2701 et seq.). Under OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time restoration to baseline (the resource quality and conditions that would exist if the spill had not occurred) is complete.

The Deepwater Horizon oil spill Trustees are:

• U.S. Environmental Protection Agency (EPA);

• U.S. Department of the Interior (DOI), as represented by the National Park Service, U.S. Fish and Wildlife Service, and Bureau of Land Management;

• National Oceanic and Atmospheric Administration (NOAA), on behalf of the U.S. Department of Commerce;

• U.S. Department of Agriculture (USDA);

• State of Louisiana Coastal Protection and Restoration Authority (CPRA), Oil Spill Coordinator's Office (LOSCO), Department of Environmental Quality (LDEQ), Department of Wildlife and Fisheries (LDWF), and Department of Natural Resources (LDNR);

• State of Mississippi Department of Environmental Quality;

• State of Alabama Department of Conservation and Natural Resources and Geological Survey of Alabama;

• State of Florida Department of Environmental Protection and Fish and Wildlife Conservation Commission; and

• State of Texas Parks and Wildlife Department, General Land Office, and Commission on Environmental Quality.

On April 4, 2016, the Trustees reached and finalized a settlement of their natural resource damage claims with BP in a Consent Decree approved by the United States District Court for the Eastern District of Louisiana. Pursuant to that Consent Decree, restoration projects in the Louisiana Restoration Area are now chosen and managed by the Louisiana TIG. The Louisiana TIG is composed of the following Trustees: CPRA, LOSCO, LDEQ, LDWF, LDNR, EPA, DOI, NOAA, USDA.

Background

A Notice of Availability of the Deepwater Horizon Oil Spill Louisiana Trustee Implementation Group Draft Restoration Plan and Environmental Assessment #2: Provide and Enhance Recreational Opportunities (Draft RP/EA #2) was published in the Federal Register on December 20, 2017. The Louisiana TIG hosted a public meeting on January 24, 2018, in New Orleans, and the public comment period for the Draft RP/EA #2 closed on February 2, 2018. The Draft RP/EA #2 proposed four restoration projects, evaluated in accordance with OPA and NEPA. In response to public comments received on the Draft RP/EA #2, the Louisiana TIG prepared a Draft Supplemental Restoration Plan and Environmental Assessment for the Elmer's Island Access Project Modification (Draft Supplemental RP/EA) to evaluate proposed changes to the Elmer's Island Access project. A Notice of Availability of the Draft Supplemental RP/EA was published in the Federal Register on May 21, 2018. The Louisiana TIG hosted a public meeting on May 22, 2018, in New Orleans, and the public comment period for the Draft Supplemental RP/EA closed on June 20, 2018. The Louisiana TIG considered the public comments received on both the Draft RP/EA #2, and Draft Supplemental RP/EA, which informed the Louisiana TIG's analyses and selection of the restoration projects in the Final RP/EA #2. A summary of the public comments received and the Trustees' responses to those comments are included in Section 7 of the Final RP/EA #2.

Overview of the Final RP/EA #2

The Final RP/EA #2 is being released in accordance with OPA NRDA regulations found in the Code of Federal Regulations (CFR) at 15 CFR 990, and NEPA (42 U.S.C. 4321 et seq.). In the Final RP/EA #2, the Louisiana TIG selects the following preferred project alternatives:

• Elmer's Island Access, as modified

• Island Road Piers

• Statewide Artificial Reefs

• Lake Charles Science Center and Educational Complex

The Louisiana TIG has examined the injuries assessed by the Deepwater Horizon Trustees and evaluated restoration alternatives to address the injuries. In the Final RP/EA #2, the Louisiana TIG presents to the public its plan for providing partial compensation for lost recreational use services in the Louisiana Restoration Area. The selected projects are intended to continue the process of restoring recreational use services lost as a result of the Deepwater Horizon oil spill. The total estimated cost of the selected projects is $22 million. Additional restoration planning for the Louisiana Restoration Area will continue.

Administrative Record

The documents comprising the Administrative Record for the Final RP/EA #2 and FONSI can be viewed electronically at http://www.doi.gov/deepwaterhorizon/administrativerecord.

Authority

The authority for this action is the Oil Pollution Act of 1990 (33 U.S.C. 2701 et seq.), its implementing NRDA regulations found at 15 CFR part 990, and NEPA (42 U.S.C. 4321 et seq.).

Dated: July 3, 2018.
Benita Best-Wong,
Acting Principal Deputy Assistant Administrator, Office of Water.

[FR Doc. 2018-15348 Filed 7-19-18; 8:45 am]

BILLING CODE 6560-50-P